DEPARTMENT OF ENERGY

Federal Energy Regulatory Commission

[Docket No. EC02-105-000, et al.]

Vermont Electric Power Company, et al.; Electric Rate and Corporate Regulation Filings

August 20, 2002.

The following filings have been made with the Commission. The filings are listed in ascending order within each docket classification.

1. Vermont Electric Power Company, Inc. and Entergy Nuclear Vermont Yankee, LLC

[Docket No. EC02-105-000]

Take notice that on August 16, 2002, Vermont Electric Power Company, Inc. (VELCO) and Entergy Nuclear Vermont Yankee, LLC (Entergy Nuclear VY) jointly filed with the Federal Energy Regulatory Commission an application for authorization under section 203 of the Federal Power Act for a transfer from VELCO to Entergy Nuclear VY of minor transmission facilities located within the switchyard of Entergy Nuclear VY's generating facility.

Comment Date: September 10, 2002.

2. Western Area Power Administration

[Docket No. EF02-5091-000]

Take notice that on August 15, 2002, the Western Area Power Administration tendered for filing with the Federal Energy Regulatory Commission (Commission) the FY 2003 base charge and rates for the Boulder Canyon Project (BCP).

Comment Date: September 10, 2002.

3. Acadia Bay Energy Company, LLC

[Docket No. EG02-181-000]

Take notice that on August 13, 2002, Acadia Bay Energy Company, LLC (Acadia Bay), filed with the Federal Energy Regulatory Commission an application for determination of exempt wholesale generator status pursuant to part 365 of the Commission's regulations.

Acadia Bay, a Delaware limited liability company whose sole member is Allegheny Energy Supply Company, LLC, is constructing 540 MW of combined-cycle generation in St. Joseph County, Indiana.

Comment Date: September 10, 2002.

4. Quonset Point Cogen, L.P.

[Docket No. EG02-182-000]

Take notice that on August 15, 2002, Quonset Point Cogen,L.P., with its principal office at c/o PSEG Energy Technologies Inc., filed with the Federal Energy Regulatory Commission an application for determination of exempt wholesale generator status pursuant to part 365 of the Commission's regulations.

Quonset Point Cogen, L.P. is a company organized under the laws of New Jersey. Quonset Point Cogen, L.P. will be engaged directly or indirectly, through a Section 2(a)(11)(B) affiliate, and exclusively in owning and operating a gas turbine generator set (GTG) and a heat recovery steam generator (HRSG) located at a Rhode Island facility.

Comment Date: September 10, 2002.

5. Complete Energy Services, Inc.

[Docket No. ER99-3033-002]

Take notice that on August 2, 2002, Complete Energy Services, Inc. (Complete) tendered for filing with the Federal Energy Regulatory Commission (Commission) an updated market power analysis.

Comment Date: September 10, 2002.

6. Nevada Power Company

[Docket No. ER01-3149-003]

Take notice that on August 16, 2002, Nevada Power Company tendered for filing its compliance filing making the changes to the Interconnection and Operation Agreement (Agreement) between Nevada Power Company and Mirant Las Vegas, LLC required by the Federal Energy Regulatory Commission's June 26, 2002 order in this docket. In addition, Nevada Power has made other mutually agreeable changes to the Agreement.

Comment Date: September 6, 2002.

7. Minnesota Power

[Docket No. ER02-2238-001]

Take notice that on August 15, 2002, Minnesota Power tendered for filing a Schedule 4A—Generator Imbalance Service based upon Minnesota Power's Open Access Transmission Tariff Schedule 4—Energy Imbalance and the Midwest Independent System Operator's proposed but currently suspended Schedule 4—Energy Imbalance and Inadvertent Interchange Service. An effective date of November 1, 2002 was requested for Schedule 4A.

Comment Date: September 5, 2002.

8. UGI Development Company

[Docket No. ER02-2447-000]

Take notice that on August 14, 2002, UGI Development Company (UGID) tendered for filing a revised Wholesale Market-Based Rate Schedule. UGID requests an effective date of September 1, 2002.

Comment Date: September 4, 2002.

9. Xcel Energy Services, Inc.

[Docket No. ER02-2448-000]

Take notice that on August 14, 2002, Xcel Energy Services, Inc. (XES), on behalf of Public Service Company of Colorado (Public Service), submitted for filing a Power Purchase Agreement with Grand Valley Rural Power Lines, Inc. (Grand Valley).

XES requests that this agreement become effective on September 1, 2002.

Comment Date: September 4, 2002.

10. Reliant Energy Ormond Beach, Inc.

[Docket No. ER02-2449-000]

Take notice that on August 14, 2002 Reliant Energy Ormond Beach, Inc. (Reliant Ormond Beach) tendered for filing a Notice of Succession in Ownership or Operation. Reliant Ormond Beach requests the change be effective as of March 8, 2002.

Comment Date: September 4, 2002.

11. Reliant Energy Coolwater, Inc.

[Docket No. ER02-2453-000]

Take notice that on August 14, 2002 Reliant Energy Coolwater, Inc. (Reliant Coolwater) tendered for filing a Notice of Succession in Ownership or Operation. Reliant Coolwater requests the change be effective as of March 8, 2002.

Comment Date: September 4, 2002.

12. ISO New England Inc.

[Docket No. ER02-2463-000]

Take notice that on August 16, 2002, pursuant to Section 205 of the Federal Power Act, ISO New England Inc. filed with the Federal Energy Regulatory Commission a Reliability Agreement dated August 1, 2002 between ISO-NE and Devon Power LLC.

Copies of said filing have been served upon all parties to this proceeding, and upon NEPOOL Participants, and upon all non-Participant entities that are customers under the NEPOOL Open Access Transmission Tariff, as well as upon the utility regulatory agencies of the six New England States.

Comment Date: September 6, 2002.

13. Niagara Mohawk Power Corporation

[Docket No. ER02-2465-000]

Take notice that on August 15, 2002, Niagara Mohawk Power Corporation (Niagara Mohawk) tendered for filing an unexecuted agreement for service under its own Open Access Transmission Tariff for transmission service furnished to SUNY-Buffalo on November 17, 1999.

Comment Date: September 5, 2002.

14. PJM Interconnection, L.L.C.

[Docket No. ER02-2466-000]

Take notice that on August 16, 2002, PJM Interconnection, L.L.C. (PJM) tendered for filing a signature page to the Reliability Assurance Agreement among Load Serving Entities in the PJM Control Area (RAA) for Sempra Energy Trading Corp. (Sempra). PJM also filed Second Revised Sheet No. 62 of the RAA including Sempra in the list of parties to the RAA.

PJM states that it served a copy of its filing on all parties to the RAA, including Sempra Energy Trading Corp., and each of the state electric utility regulatory commissions within the PJM Control Area.

Comment Date: September 6, 2002.

15. Duquesne Light Company

[Docket No. ER02-2467-000]

Take notice that on August 16, 2002, Duquesne Light Company (DLC) filed Service Agreement No. 183, dated August 16, 2002 with Powerex Corp. under DLC's Open Access Transmission Tariff (Tariff). The Service Agreement adds Powerex Corp. as a customer under the Tariff.

DLC requests an effective date of August 16, 2002 for the Service Agreement.

Comment Date: September 6, 2002.

16. Duquesne Light Company

[Docket No. ER02-2468-000]

Take notice that on August 16, 2002, Duquesne Light Company (DLC) filed Service Agreement No. 184, dated August 16, 2002 with Powerex Corp. under DLC's Open Access Transmission Tariff (Tariff). The Service Agreement adds Powerex Corp. as a customer under the Tariff.

DLC requests an effective date of August 16, 2002 for the Service Agreement.

Comment Date: September 6, 2002.

17. The New Power Company

[Docket No. ER02-2469-000]

Take notice that on August 16, 2002, The New Power Company submitted for filing a Notice of Succession of a Service Agreement for Network Transmission Service and Operating Agreement entered into by and between Cinergy Services, Inc. and The New Power Company, which The New Power Company is requesting authorization to assign to Dominion Retail.

The New Power Company has requested an effective date of August 17, 2002. Copies of the filing have been served on Cinergy Services, Inc., Dominion Retail, Inc. and the Ohio Public Utilities Commission.

Comment Date: September 6, 2002.

18. PJM Interconnection, L.L.C.

[Docket No. ER02-2470-000]

Take notice that on August 16, 2002 PJM Interconnection, L.L.C. (PJM), submitted for filing an executed interconnection service agreement between PJM and National Institutes of Health. PJM requests a waiver of the Commission's 60-day notice requirement to permit the effective date agreed to by the parties.

Copies of this filing were served upon each of the parties to the agreement and the state regulatory commissions within the PJM region.

Comment Date: September 6, 2002.

19. PJM Interconnection, L.L.C.

[Docket No. ER02-2471-000]

Take notice that on August 16, 2002 PJM Interconnection, L.L.C. (PJM), submitted for filing two executed interconnection service agreements between PJM and PPL West Earl, L.L.C.

PJM requests a waiver of the Commission's 60-day notice requirement to permit the effective dates agreed to by the parties. Copies of this filing were served upon each of the parties to the agreements and the state regulatory commissions within the PJM region.

Comment Date: September 6, 2002.

20. PJM Interconnection, L.L.C.

[Docket No. ER02-2472-000]

Take notice that on August 16, 2002 PJM Interconnection, L.L.C. (PJM), submitted for filing two executed interconnection service agreements between PJM and Tosco Corporation and Tosco Refining Company. PJM requests a waiver of the Commission's 60-day notice requirement to permit the effective dates agreed to by the parties.

Copies of this filing were served upon each of the parties to the agreements and the state regulatory commissions within the PJM region.

Comment Date: September 6, 2002.

21. Allegheny Power Service Corporation, on behalf of Monongahela Power Company, The Potomac Edison Company and West Penn Power Company (Allegheny Power)

[Docket No. OA02-8-000]

Take notice that on August 14, 2002, Allegheny Power Service Corporation on behalf of Monongahela Power Company, The Potomac Edison Company and West Penn Power Company (Allegheny Power) filed Revised Standards of Conduct. Allegheny Power requests a waiver of notice requirements to make the Revised Standards of Conduct effective as of April 1, 2002.

Copies of the filing have been provided to the Public Utilities Commission of Ohio, the Pennsylvania Public Utility Commission, the Maryland Public Service Commission, the Virginia State Corporation Commission, the West Virginia Public Service Commission, and all parties of record.

Comment Date: September 9, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-21668 Filed 8-23-02; 8:45 am]

BILLING CODE 6717-01-P